DEPARTMENT OF EDUCATION

National Assessment Governing Board Quarterly Board Meeting

AGENCY: National Assessment Governing Board, U.S. Department of Education.

ACTION: Announcement of open and closed meetings.

SUMMARY: This notice sets forth the agenda for the August 3-5, 2017 Quarterly Board Meeting of the National Assessment Governing Board (hereafter referred to as Governing Board). This notice provides information to members of the public who may be interested in attending the meeting or providing written comments related to the work of the Governing Board. Written comments may be submitted electronically or in hard copy to the attention of the Executive Officer (see contact information below). Notice of this meeting is required under the Federal Advisory Committee Act (FACA).

DATES: The Quarterly Board Meeting will be held on the following dates:

• August 3, 2017 from 8:30 a.m. to 6:00 p.m.

• August 4, 2017 from 8:30 a.m. to 4:45 p.m.

• August 5, 2017 from 7:30 a.m. to 12:00 p.m.

ADDRESSES: Washington Marriott Georgetown, 1221 22nd Street NW., Washington, DC 20037.

FOR FURTHER INFORMATION CONTACT: Munira Mwalimu, Executive Officer/Designated Federal Official for the Governing Board, 800 North Capitol Street NW., Suite 825, Washington, DC 20002, telephone: (202) 357-6938, fax: (202) 357-6945, email: Munira.Mwalimu@ed.gov.

SUPPLEMENTARY INFORMATION: Statutory Authority and Function: The Governing Board is established under the National Assessment of Educational Progress Authorization Act, Title III of Public Law 107-279. Information on the Governing Board and its work can be found at www.nagb.gov.

The Governing Board is established to formulate policy for the National Assessment of Educational Progress (NAEP). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

August 3-5, 2017 Committee Meetings

The Governing Board's standing committees will meet to conduct regularly scheduled work based on agenda items planned for this Quarterly Board Meeting and follow-up items as reported in the Governing Board's committee meeting minutes available at http://nagb.gov/what-we-do/board-committee-reports-and-agendas.html.

Detailed Meeting Agenda: August 3-5, 2017

August 3: Committee Meetings

Assessment Development Committee (ADC): Open Session: 8:30 a.m. to 2:00 p.m.; Closed Session: 2:00 p.m. to 4:00 p.m.

Executive Committee: Open Session: 4:30 p.m. to 6:00 p.m.

August 4: Full Governing Board and Committee Meetings

Full Governing Board: Open Session: 8:30 a.m. to 10:00 a.m.; 12:30 p.m. to 4:45 p.m.

Committee Meetings

ADC: Closed Session: 10:00 a.m. to 12:15 p.m.

Committee on Standards, Design and Methodology (COSDAM): Open Session: 10:00 a.m. to 12:15 p.m.

Reporting and Dissemination (R&D): Open Session 10:00 a.m. to 12:15 p.m.

August 5: Full Governing Board and Committee Meetings

Nominations Committee: Closed Session: 7:30 a.m. to 8:15 a.m.

Full Governing Board: Open Session: 8:30 a.m. to 12:00 p.m.

On Thursday, August 3, 2017, ADC will meet in open session from 8:30 a.m. to 2:00 p.m. ADC will then meet in closed session from 2:00 p.m. to 4:00 p.m. to review secure cognitive items and digital-based tasks, including hybrid hands-on tasks, for the grade 8 NAEP assessments in Civics, U.S. History, and Geography, and the NAEP Science assessments at grades 4, 8, and 12. This meeting must be conducted in closed session because the test items and data are secure and have not been released to the public. Public disclosure of the secure test items would significantly impede implementation of the NAEP assessment program if conducted in open session. Such matters are protected by exemption 9(B) of § 552b(c) of Title 5 of the United States Code.

On Thursday, August 3, 2017, the Executive Committee will convene in open session from 4:30 p.m. to 6:00 p.m. to discuss regularly scheduled business.

On Friday, August 4, 2017, the Governing Board will meet in open session from 8:30 a.m. to 9:40 a.m. The Governing Board will review and approve the August 3-5, 2017 Governing Board meeting agenda and meeting minutes from the May 2017 Quarterly Board Meeting. Thereafter, the Executive Director of the Governing Board, William Bushaw, will provide a progress report to Board members on implementation of the Strategic Vision, followed by an update from Peggy Carr, Acting Commissioner of the National Center for Education Statistics (NCES), on current NAEP activities underway at NCES.

The Governing Board will recess for a 20 minute break and convene for standing committee meetings which will take place from 10:00 a.m. to 12:15 p.m. Two of the standing committees—COSDAM and R&D—will meet in open session from 10:00 a.m. to 12:15 p.m., while the third standing committee—ADC—will meet in closed session from 10:00 a.m. to 12:15 p.m. to continue their review of review secure cognitive items and digital-based tasks, including hybrid hands-on tasks, for the grade 8 NAEP assessments in Civics, U.S. History, and Geography, and the NAEP Science assessments at grades 4, 8, and 12. This meeting must be conducted in closed session because the test items and data are secure and have not been released to the public. Public disclosure of the secure test items would significantly impede implementation of the NAEP assessment program if conducted in open session. Such matters are protected by exemption 9(B) of § 552b(c) of Title 5 of the United States Code.

Following the committee meetings, the full Governing Board will meet in open session from 12:30 p.m. to 4:45 p.m.

Ms. Peggy Carr will provide an overview of the High School Transcript Study from 12:30 p.m. to 1:45 p.m. Then the Governing Board will recess for a 15 minute break and reconvene at 2:00 p.m. A panel discussion to discuss priorities for the NAEP Assessment Schedule will take place from 2:00 p.m. to 3:15 p.m. Thereafter, from 3:15 p.m. to 4:45 p.m., Chairman Terry Mazany will provide an overview of the breakout session goals, following which the Governing Board will convene in breakout sessions to discuss priorities for the NAEP Assessment Schedule vis-a-vis the Governing Board's Strategic Vision #9, which is to develop policy approaches to revise the NAEP assessment subjects and schedule. The August 4, 2017 session will adjourn at 4:45 p.m.

On August 5, 2017, the Nominations Committee will meet in closed session from 7:30 a.m. to 8:15 a.m. The committee chair will provide a briefing on the status of the 2017 slate of final candidates submitted to the Secretary and discuss plans for the 2018 nominations. The Nominations Committee's discussions pertain solely to internal personnel rules and practices of an agency and information of a personal nature where disclosure would constitute a clearly unwarranted invasion of personal privacy. As such, the discussions are protected by exemptions 2 and 6 of § 552b(c) of Title 5 of the United States Code.

The Governing Board will meet in open session on August 5, 2017 from 8:30 a.m. to 9:15 a.m. to summarize the August 4 breakout discussions and discuss the Governing Board's priorities for the NAEP Assessment Schedule. From 9:15 a.m. to 10:00 a.m. the Governing Board will engage in discussion on the NAEP Framework Policy, Strategic Vision #5, which is to develop new approaches to update NAEP subject area frameworks. Thereafter the Governing Board will take a 15 minute break and reconvene from 10:15 a.m. to 11:00 a.m. to discuss the NAEP Achievement Level Setting Policy, Strategic Vision #5. From 11:00 a.m. to 11:30 a.m. the Governing Board will receive standing committee reports and take action on the election of the Governing Board's Vice Chair for the 2017-2018 term. The Governing Board will the hear remarks from departing members from 11:30 a.m. to 12:00 p.m.

The August 5, 2017 meeting will adjourn at 12:00 p.m.

Access to Records of the Meeting: Pursuant to FACA requirements, the public may also inspect the meeting materials at www.nagb.gov beginning on Monday, August 21, 2017 by 10:00 a.m. ET. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice no later than 21 days prior to the meeting

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe Web site. You may also access documents of the Department published in the Federal Register by using the article search feature at: www.federalregister.gov. Specifically, through the advanced search feature at this site, you can limit your search to documents published by the Department.

Authority: Pub. L. 107-279, Title III—National Assessment of Educational Progress § 301.

Dated: July 11, 2017.
Lisa Stooksberry,
Deputy Executive Director, National Assessment Governing Board (NAGB), U.S. Department of Education.

[FR Doc. 2017-14816 Filed 7-13-17; 8:45 am]

BILLING CODE 4000-01-P